DEPARTMENT OF HEALTH AND HUMAN SERVICES

Announcement of Anticipated Availability of Funds for Family Planning Service Grants

AGENCY: Department of Health and Human Services, Office of the Secretary, Office of Public Health and Science, Office of Population Affairs.

ACTION: Notice.

Announcement Type: Initial Competitive Grant.

CFDA Number: 93.217.

DATES: Application due dates vary. To receive consideration, applications must be received by the Office of Public Health and Science (OPHS) Office of Grants Management no later than the applicable due date listed in Table I, Section IV. 3. Submission Dates and Times, and within the time frames specified in this announcement for electronically submitted, mailed, and/or hand-carried applications.

Executive Order 12372 comment due date: The State Single Point of Contact (SPOC) has 60 days from the applicable due date as listed in Table I of this announcement to submit any comments.

SUMMARY: The Office of Population Affairs (OPA), Office of Family Planning (OFP), announces the anticipated availability of funds for fiscal year (FY) 2005 family planning service grants under the authority of Title X of the Public Health Service Act and solicits applications for competing grant awards to serve the areas and/or populations listed in Table I. Only applications which propose to serve the populations and/or areas listed in Table I will be accepted for review and possible funding.

I. Funding Opportunity Description

This announcement seeks applications from public and nonprofit private entities to establish and operate voluntary family planning services projects, which shall provide family planning services to all persons desiring such services. Family planning services include clinical family planning and related preventive health services; information, education, and counseling related to family planning, including abstinence education; and referral services as indicated.

Program Statute and Regulations

Requirements regarding the provision of family planning services under Title X can be found in the statute (Title X of the Public Health Service Act, 42 U.S.C. 300, et seq.), the implementing regulations which govern project grants for family planning services (42 CFR part 59, subpart A), and the “Program Guidelines for Project Grants for Family Planning Services,” published in January 2001. Title X of the Public Health Service Act authorizes the Secretary of Health and Human Services (HHS) to award grants for projects to provide family planning services to persons from low-income families and others. Section 1001 of the Act, as amended, authorizes grants “to assist in the establishment and operation of voluntary family planning projects which shall offer a broad range of acceptable and effective family planning methods and services (including natural family planning methods, infertility services, and services for adolescents).” Title X regulations further specify that “These projects shall consist of the educational, comprehensive medical, and social services necessary to aid individuals to determine freely the number and spacing of their children” (42 CFR 59.1). In addition, section 1001 of the statute requires that, to the extent practicable, Title X service providers shall encourage family participation in family planning services projects. Section 1008 of the Act, as amended, stipulates that “none of the funds appropriated under this title shall be used in programs where abortion is a method of family planning.”

Copies of the Title X statute, regulations, and Program Guidelines may be obtained by contacting the OPHS Office of Grants Management, or downloaded from the Office of Population Affairs Web site at http://opa.osophs.dhhs.gov. These documents are also included in the application kit. All Title X requirements—including those derived from the statute, the regulations, and the Program Guidelines—apply to all activities funded under this announcement. For example, projects must meet the regulatory requirements set out at 42 CFR 59.5 regarding charges to clients, and the funding criteria set out at 42 CFR 59.7 apply to all applicants under this announcement.

II. Award Information

The anticipated FY 2005 appropriation for the Title X family planning program is approximately $280 million. Of this amount, OPA intends to make available approximately $46 million for competing Title X family planning service grant awards in 16 states, populations, and/or areas. (See Table I, Section IV. 3. Submission Dates and Times, for competing areas and approximate amount of awards). The remaining funds will be used for continued support of grants and activities which are not competitive in FY 2005. This program announcement is subject to the appropriation of funds and is a contingency action taken to ensure that, should funds become available for this purpose, applications can be processed in an orderly manner, and funds can be awarded in a timely fashion. Grants will be funded in annual increments (budget periods) and are generally approved for a project period of three to five years. Funding for all approved budget periods beyond the first year of the grant is contingent upon the availability of funds, satisfactory progress of the project, and adequate stewardship of Federal funds.

III. Eligibility Information

1. Eligible Applicants

Any public or nonprofit private entity located in a State (which includes one of the 50 United States, the District of Columbia, Commonwealth of Puerto Rico, U.S. Virgin Islands, Commonwealth of the Northern Mariana Islands, American Samoa, Guam, Republic of Palau, Federated States of Micronesia, and the Republic of the Marshall Islands) is eligible to apply for a grant under this announcement. Faith-based organizations are eligible to apply for these Title X family planning services grants.

2. Cost Sharing

Program regulations at 42 CFR 59.7(b) state that “No grant may be made for less than 90 percent of the project's costs, as so estimated, unless the grant is to be made for a project that was supported, under section 1001, for less than 90 percent of its costs in fiscal year 1975. In that case, the grant shall not be for less than the percentage of costs covered by the grant in fiscal year 1975.” Furthermore, section 59.7(c) stipulates that “No grant may be made for an amount equal to 100 percent for the project's estimated costs.”

3. Other

Awards will be made only to those organizations or agencies which have met all applicable requirements and which demonstrate the capability of providing the proposed services.

IV. Application and Submission Information

1. Address to Request Application Package

Application kits may be requested from, and applications submitted to the OPHS Office of Grants Management, 1101 Wootton Parkway, Suite 550, Rockville, MD 20852; 301-594-0758. Application kits are also available online at the electronic grants management Web site (e-Grants) at https://egrants.osophs.dhhs.gov, or by FAX at 301-594-9399.

2. Content and Form of Application

Applications must be submitted on the Form OPHS-1 (Revised 6/01) and in the manner prescribed in the application kit. Applications should be limited to 60 double-spaced pages, not including appendices and required forms, using an easily readable serif typeface, such as Times Roman, Courier, or GC Times. All pages, charts, figures and tables should be numbered. The application narrative should be numbered separately and clearly show the 60 page limit. If the application narrative exceeds 60 pages, only the first 60 pages of the application narrative will be reviewed. Appendices may provide curriculum vitae, organizational structure, examples of organizational capabilities, or other supplemental information which supports the application. However, appendices are for supportive information only. All information that is critical to the proposed project should be included in the body of the application. Appendices should be clearly labeled.

A Dun and Bradstreet Universal Numbering System (DUNS) number is required for all applications for Federal assistance. Organizations should verify that they have a DUNS number or take the steps needed to obtain one. Instructions for obtaining a DUNS number are included in the application package, and may be downloaded from the OPA Web site.

Applications must include a one-page abstract of the proposed project. The abstract will be used to provide reviewers with an overview of the application, and will form the basis for the application summary in grants management documents.

3. Submission Dates and Times

Competing grant applications are invited for the following areas (please note, in order to maximize access to family planning services, one or more grants may be awarded for each area listed):

Table I
Areas/populations to be served | Approximate funding available | Application due date | Approximate funding date
Region I:
Massachusetts | $5,217,000 | 09/01/04 | 01/01/05
Region II:
New York State | 9,635,000 | 03/01/05 | 07/01/05
Puerto Rico | 2,389,000 | 03/01/05 | 07/01/05
Region III:
Washington, D.C | 1,053,000 | 09/01/04 | 01/01/05
Region IV:
Kentucky | 5,203,000 | 03/01/05 | 07/01/05
South Carolina | 5,569,000 | 03/01/05 | 07/01/05
Tennessee | 5,914,000 | 03/01/05 | 07/01/05
Region V:
No areas competitive in FY 2005 |  |  |
Region VI:
Arkansas | 3,241,000 | 11/01/04 | 03/01/05
New Mexico | 2,288,000 | 09/01/04 | 01/01/05
Region VII:
Kansas | 2,332,000 | 03/01/05 | 07/01/05
Region VIII:
No areas competitive in 2005 |  |  |
Region IX:
Gila River Indian Community | 251,000 | 03/01/05 | 07/01/05
Government of Guam | 452,000 | 03/01/05 | 07/01/05
Republic of Palau | 99,000 | 03/01/05 | 07/01/05
Federated States of Micronesia | 411,000 | 03/01/05 | 07/01/05
Region X:
Idaho | 1,318,000 | 03/01/05 | 07/01/05
Oregon, Multnomah County | 330,000 | 03/01/05 | 07/01/05

Submission Mechanisms

The OFP provides multiple mechanisms for submission of applications as described in the following sections.

Electronic Submission

The OPHS electronic grants management system, eGrants, provides for applications to be submitted electronically. While applications are accepted in hard copy, the use of the electronic application submission capabilities provided by the eGrants system is encouraged. Information about this system is available on the OPA Web site, http://opa.osophs.dhhs.gov, or may be requested from the OPHS Office of Grants Management at 301-594-0758. Applications sent via any other means of electronic communication, including facsimile or electronic mail, outside of the OPHS eGrants system will not be accepted for review.

The body of the application and required forms can be submitted using the e-Grants system. In addition to electronically submitted materials, applicants are required to provide a hard copy of the application face page (Standard Form 424 [Revised 06/2001]) with the original signature of an individual authorized to act for the applicant agency or organization and to assume for the organization the obligations imposed by the terms and conditions of the grant award. The application is not considered complete until both the electronic application and the hard copy face page with original signature are received.

Electronic grant application submissions must be submitted no later than 5 p.m. eastern time on the deadline date specified in the DATES section of the announcement. All required hard copy original signatures and mail-in items must be received by the OPHS Office of Grants Management no later than 5 p.m. eastern time on the next business day after the deadline date specified in the DATES section of the announcement.

Applications will not be considered valid until all electronic application components, hard copy original signatures, and mail-in items are received by the OPHS Office of Grants Management according to the deadlines specified above. Any application submitted electronically after 5 p.m. eastern time on the deadline date specified in the DATES section of the announcement will be considered late and will be deemed ineligible. Failure of the applicant to submit all required hard copy original signatures to the OPHS Office of Grants Management by 5 p.m. eastern time on the next business day after the deadline date specified in the DATES section of the announcement will result in the electronic application being deemed ineligible.

Upon completion of a successful electronic application submission, the eGrants system will provide the applicant with a confirmation page indicating the date and time (eastern time) of the electronic application submission. This confirmation page will also provide the receipt status of all indicated signatures and items to be mailed to the OPHS Office of Grants Management. As items are received by the OPHS Office of Grants Management, the electronic application status will be updated to reflect the receipt of mail-in items. It is recommended that the applicant monitor the status of their application to ensure that all signatures and mail-in items are received.

Applicants are encouraged to initiate electronic applications early in the application development process, and to submit early on the due date or before. This will aid in addressing any problems with submission prior to the application deadline.

Mailed Hard Copy Applications

Applications submitted in hard copy are required to submit an original and two copies of the application. The original application must be signed by an individual authorized to act for the applicant agency or organization and to assume for the organization the obligations imposed by the terms and conditions of the grant award.

Mailed applications will be considered as meeting the deadline if they are received by the OPHS Office of Grants Management on or before 5 p.m. eastern time on the deadline date specified in the DATES section of the announcement. The application deadline date requirement specified in this announcement supercedes the instructions in the OPHS-1. Applications that do not meet the deadline will be returned to the applicant unread.

Hand-Delivered Applications

Hand-delivered applications must be received by the OPHS Office of Grants Management, 1101 Wootton Parkway, Suite 550, Rockville, Maryland, 20852, no later than 5 p.m. eastern time on the deadline date specified in the DATES section of the announcement. Hand-delivered applications must include an original and two copies of the application. The original application must be signed by an individual authorized to act for the applicant agency or organization and to assume for the organization the obligations imposed by the terms and conditions of the grant award.

4. Intergovernmental Review

Applicants under this announcement are subject to the requirements of Executive Order 12372, “Intergovernmental Review of Federal Programs,” as implemented by 45 CFR part 100, “Intergovernmental Review of Department of Health and Human Services Programs and Activities.” As soon as possible, the applicant should discuss the project with the State Single Point of Contact (SPOC) for the state in which the applicant is located. The application kit contains the currently available listing of the SPOCs that have elected to be informed of the submission of applications. For those states not represented on the listing, further inquiries should be made by the applicant regarding the submission to the relevant SPOC. The SPOC should forward any comments to the OPHS Office of Grants Management, 1101 Wootton Parkway, Suite 550, Rockville, Maryland 20852. The SPOC has 60 days from the applicable due date as listed in Table I of this announcement to submit any comments. For further information, contact the OPHS Office of Grants Management at 301-594-0758.

5. Funding Restrictions

The allowability, allocability, reasonableness and necessity of direct and indirect costs that may be charged to OPHS grants are outlined in the following documents: OMB Circular A-21 (Institutions of Higher Education); OMB Circular A-87 (State and Local Governments); OMB Circular A-122 (Nonprofit Organizations); and 45 CFR part 74, Appendix E (Hospitals). Copies of the Office of Management and Budget (OMB) Circulars are available on the Internet at http://www.whitehouse.gov/omb/grants/grants_circulars.html.

In order to claim indirect costs as part of a budget request, an applicant organization must have an indirect cost rate which has been negotiated with the Federal government. The Health and Human Services Division of Cost Allocation (DCA) Regional Office that is applicable to your State can provide information on how to receive such a rate. A list of DCA Regional Offices is included in the application kit for this announcement.

6. Other Submission Requirements

The following priorities represent overarching goals for the Title X program. In developing a proposal, each applicant should describe how the proposed project will address each priority.

Program Priorities

1. Assuring continued high quality family planning and related preventive health services that will improve the overall health of individuals;

2. Assuring access to a broad range of high quality clinical family planning and related preventive health services that include the following: Provision of highly effective contraceptive methods; breast and cervical cancer screening and prevention; STD and HIV prevention education, counseling, and testing; extramarital abstinence education and counseling; and other preventive health services. The broad range of services does not include abortion as a method of family planning;

3. Encouraging family participation in the decision of minors to seek family planning services, including activities that promote positive family relationships;

4. Improving the health of individuals and communities by partnering with community-based organizations (CBOs), faith-based organizations (FBOs), and other public health providers that work with vulnerable or at-risk populations;

5. Promoting individual and community health by emphasizing family planning and related preventive health services for hard-to-reach populations, such as uninsured or under-insured individuals, males, persons with limited English proficiency, adolescents, and other vulnerable or at-risk populations.

Legislative Mandates

The following legislative mandates have been part of the Title X appropriations for each of the last several years. In developing a proposal, each applicant should describe how the proposed project will address each of these legislative mandates.

• “None of the funds appropriated in this Act may be made available to any entity under Title X of the Public Health Service Act unless the applicant for the award certifies to the Secretary that it encourages family participation in the decision of minors to seek family planning services and that it provides counseling to minors on how to resist attempts to coerce minors into engaging in sexual activities;” and

• “Notwithstanding any other provision of law, no provider of services under Title X of the Public Health Service Act shall be exempt from any State law requiring notification or the reporting of child abuse, child molestation, sexual abuse, rape, or incest.”

Other Key Issues

In addition to the Program Priorities and Legislative Mandates, the following Key Issues have implications for Title X services projects and should be acknowledged in the program plan:

1. The increasing cost of providing family planning services;

2. The U.S. Department of Health and Human Service priorities, initiatives, and Healthy People 2010 objectives as they relate to family planning and reproductive health (http://www.health.gov/healthypeople);

3. Departmental initiatives and legislative mandates, such as the Health Insurance Portability and Accountability Act (HIPAA); Infant Adoption Awareness Program; providing adolescents with information, skills and support to encourage delay of sexual activity; serving persons with limited English proficiency;

4. Integration of HIV/AIDS services into family planning programs; specifically, HIV/AIDS education, counseling and testing either on-site or by referral should be provided in all Title X family planning services projects. Education regarding the prevention of HIV/AIDS should incorporate the “ABC” message. That is, for adolescents and unmarried individuals, the message should include “A” for abstinence; for married or individuals in committed relationships, the message is “B” for being faithful; and, for individuals who engage in behavior that puts them at risk for HIV, the message should include “C” for condom use.

5. Utilization of electronic technologies, such as e-Grants, the OPA electronic grants management system (training for grantees will be provided as needed);

6. Data collection and reporting which is responsive to the revised Family Planning Annual Report (FPAR) and other information needs for monitoring and improving family planning services;

7. Service delivery improvement through utilization of research outcomes focusing on family planning and related population issues; and

8. Utilizing practice guidelines and recommendations developed by recognized professional organizations and other Federal agencies in the provision of evidence-based Title X clinical services.

Characteristics of a Successful Proposal

Proposed projects must adhere to all requirements of the Title X statute, regulations, and Program Guidelines. Successful proposals will fully describe how the project will address the requirements, and should include the following:

1. A clear description of the need for the services proposed;

2. A description of the geographic area and population to be served;

3. Evidence that the applicant organization has experience in providing clinical health services and the capacity to undertake the clinical family planning and related preventive health services required;

4. Evidence that the proposed services are consistent with the requirements of Title X. Use of Title X funds is prohibited in programs where abortion is a method of family planning;

5. A project plan which describes the services to be provided, the location(s) and hours of clinic operations, and projected number of clients to be served;

6. A staffing plan which is reasonable and adheres to the Title X regulatory requirement that family planning medical services will be performed under the direction of a physician with special training or experience in family planning. Staff providing clinical services should be licensed and function within the applicable professional practice acts for the State;

7. Goal statement(s) and related outcome objectives that are specific, measurable, achievable, realistic and time-framed (S.M.A.R.T.);

8. Description of how the applicant will address Title X Program Priorities and Key Issues.

9. Evidence of formal agreements for referral services (e.g., required clinical services, if not provided by the applicant), and collaborative agreements with other service providers in the community, where appropriate;

10. Evidence of the capability of collecting and reporting the required program data for the Title X annual data collection system (FPAR);

11. Evidence of a system for assuring quality family planning services, including adherence to program requirements; and

12. A budget and budget justification narrative for year one of the project that is detailed, reasonable, adequate, cost efficient, and that is derived from proposed activities. Budget projections for each of the continuing years should be included.

V. Application Review Information

1. Criteria

(1) The degree to which the project plan adequately provides for the requirements set forth in the Title X regulations at 42 CFR part 59, subpart A (20 points);

(2) The extent to which family planning services are needed locally (20 points);

(3) The number of patients, and, in particular, the number of low-income patients to be served (15 points);

(4) The adequacy of the applicant's facilities and staff (15 points);

(5) The capacity of the applicant to make rapid and effective use of the Federal assistance (10 points);

(6) The relative availability of non-Federal resources within the community to be served and the degree to which those resources are committed to the project (10 points); and

(7) The relative need of the applicant (10 points).

2. Review and Selection Process

Each regional office is responsible for evaluating applications and setting funding levels according to the criteria set out in 42 CFR 59.7(a). Eligible applications will be reviewed by a panel of independent reviewers and will be evaluated based on the criteria listed above. In addition to the independent review panel, there will be staff reviews of each application for programmatic and grants management compliance.

Final grant award decisions will be made by the Regional Health Administrator (RHA) for the applicable PHS Region. In making grant award decisions, the RHA will fund those projects which will, in his/her judgement, best promote the purposes of section 1001 of the Act, within the limits of funds available for such projects.

VI. Award Administration Information

1. Award Notices

The OPA does not release information about individual applications during the review process. When final funding decisions have been made, each applicant will be notified by letter of the outcome. The official document notifying an applicant that a project application has been approved for funding is the Notice of Grant Award, signed by the Director of the OPHS Office of Grants Management. This document specifies to the grantee the amount of money awarded, the purposes of the grant, the length of the project period, terms and conditions of the grant award, and the amount of funding, if any, to be contributed by the grantee to project costs.

2. Administrative and National Policy Requirements

In accepting this award, the grantee stipulates that the award and any activities thereunder are subject to all provisions of 45 CFR parts 74 and 92, currently in effect or implemented during the period of the grant.

The successful applicant will be responsible for the overall management of activities within the scope of the approved project plan. The OPHS requires all grant recipients to provide a smoke-free workplace and to promote the non-use of all tobacco products. This is consistent with the OPHS mission to protect and advance the physical and mental health of the American people.

The Buy American Act of 1933, as amended (41 U.S.C. 10a-10d), requires that Government agencies give priority to domestic products when making purchasing decisions. Therefore, to the greatest extent practicable, all equipment and products purchased with grant funds should be American-made.

A Notice providing information and guidance regarding the “Government-wide Implementation of the President's Welfare-to-Work Initiative for Federal Grant Programs” was published in the Federal Register on May 16, 1997. This initiative was designated to facilitate and encourage grantees and their sub-recipients to hire welfare recipients and to provide additional needed training and/or mentoring as needed. The text of the Notice is available electronically on the OMB home page at http://www.whitehouse.gov/omb.

The HHS Appropriations Act requires that when issuing statements, press releases, requests for proposals, bid solicitations, and other documents describing projects or programs funded in whole or in part with Federal money, grantees shall clearly state the percentage and dollar amount of the total costs of the program or project which will be financed with Federal money and the percentage and dollar amount of the total costs of the project or program that will be financed by non-governmental sources.

3. Reporting

Each grantee is required to submit a Family Planning Annual Report (FPAR) each year. The information collections (reporting requirements) and format for this report have been approved by the Office of Management and Budget and assigned OMB No. 0990-0221. The FPAR contains a brief organizational profile and 14 tables to report data on users, service use, and revenue for the reporting year.

In addition to the FPAR, grantees are required to submit an annual Financial Status Report within 90 days of the end of each budget period. Grantees who receive greater than $500,000 of Federal funds must also undergo an independent audit in accordance with OMB Circular A-133.

VII. Agency Contacts

Administrative and Budgetary Requirements

For information related to administrative and budgetary requirements, contact the OPHS Office of Grants Management, 1101 Wootton Parkway, Suite 550, Rockville, MD 20852; 301-594-0758.

Program Requirements

For information related to family planning program requirements, contact the Regional Program Consultant for Family Planning in the applicable Regional Office listed below:

Region I (Connecticut, Maine, Massachusetts, New Hampshire, Rhode Island, Vermont)—Suzanne Theroux, 617-565-1063;

Region II (New Jersey, New York, Puerto Rico, Virgin Islands)—Robin Lane, 212-264-3935;

Region III (Delaware, Washington, DC, Maryland, Pennsylvania, Virginia, West Virginia)—Donna Garner, 215-861-4624 or Dickie Lynn Gronseth, 215-861-4656;

Region IV (Kentucky, Mississippi, North Carolina, Tennessee, Alabama, Florida, Georgia, South Carolina)—Cristino Rodriguez, 404-562-7900;

Region V (Illinois, Indiana, Michigan, Minnesota, Ohio, Wisconsin)—Janice Ely, 312-886-3864;

Region VI (Arkansas, Louisiana, New Mexico, Oklahoma, Texas)—Evelyn Glass, 214-767-3088;

Region VII (Iowa, Kansas, Missouri, Nebraska)—Elizabeth Curtis, 816-426-2924;

Region VIII (Colorado, Montana, North Dakota, South Dakota, Utah, Wyoming)—Jill Leslie, 303-844-7856;

Region IX (Arizona, California, Hawaii, Nevada, Commonwealth of the Northern Mariana Islands, American Samoa, Guam, Republic of Palau, Federal States of Micronesia, Republic of the Marshall Islands)—Nancy Mautone Smith, 415-437-7984;

Region X (Alaska, Idaho, Oregon, Washington)—Janet Wildeboor, 206-615-2776.

Alma L. Golden, MD, FAAP
Deputy Assistant Secretary for Population Affairs.

[FR Doc. 04-15340 Filed 7-6-04; 8:45 am]

BILLING CODE 4150-34-P